DEPARTMENT OF LABOR

Employment and Training Administration

[NAFTA-04399]

Tyco Electronics; The Thomas and Betts Corporation; Irvine, CA; Amended Certification Regarding Eligibility to Apply for NAFTA-Transitional Adjustment Assistance

In accordance with section 250(A), subchapter D, chapter 2, Title II, of the Trade Act of 1974 (19 U.S.C. 2273), the Department of Labor issued a Certification for NAFTA Transitional Adjustment Assistance on January 4, 2001, applicable to workers of Tyco Electronics, Irvine, California. The notice was published in the Federal Register on February 8, 2001 (66 FR 9600).

At the request of the State agency, the Department reviewed the certification for workers of the subject firm. The workers produced electronic connectors and cable assemblies. Information received from the State shows that Tyco Electronics purchased The Thomas and Betts Corporation in July, 2000. Information also shows that some workers separated from employment at Tyco Electronics had their wages reported under a separate unemployment insurance (UI) tax account for The Thomas and Betts Corporation.

Accordingly, the Department is amending the certification to properly reflect this matter.

The intent of the Department's certification is to include all workers of Tyco Electronics, Irvine, California who were adversely affected by the shift of production to Mexico. The amended notice applicable to NAFTA-04399 is hereby issued as follows:

“All workers of Tyco Electronics, The Thomas Betts Corporation, Irvine, California who became totally or partially separated from employment on or after December 11, 1999 through January 4, 2003 are eligible to apply for NAFTA-TAA under Section 250 of the Trade Act of 1974.”

Signed at Washington, DC this 28th day of February, 2001.
Linda G. Poole,
Certifying Officer, Division of Trade Adjustment Assistance.

[FR Doc. 01-6961 Filed 3-20-01; 8:45 am]

BILLING CODE 4510-30-M